DEPARTMENT OF LABOR

Office of the Secretary

Submission for OMB Review: Comment Request

November 1, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Training Plan Regulations and Certificate of Training.

OMB Number: 1219-0009.

Form Number: MSHA 5000-23.

Frequency: On occasion and Annually.

Type of Response: Recordkeeping; Reporting; and Third party disclosure.

Affected Public: Business or other for-profit.

Number of Respondents: 2,947.

Collection of information | Annual responses | Average response time (hours) | Annual burden hours
Training Plans—Coal
Paper submission | 1,144 | 8 | 9,152
Electronic submission | 73 | 1.25 | 91
Training Plans—Metal/Non-metal
Paper submission | 8 | 8 | 64
Electronic submission | 95 | 1.25 | 119
MSHA Form 5000-23 | 111,986 | 0.08 | 8,959
Grand Total | 113,306 |  | 18,385

Total Annualized capital/startup costs: $0.

Total Annual Costs (operating/maintaining systems or purchasing services): $226,276.

Description: Title 30, CFR 48.3 and 48.23 specifically address the requirements for training plans. The standards are intended to ensure that miners will be effectively trained in matters affecting their health and safety, with the ultimate goal being the reduction of injuries in the nation's mines. The approved plans are used to implement training programs for training new miners, training experienced miners, training miners for new tasks, annual refresher training, and hazard training. The plans are also used by MSHA to ensure that all miners are receiving the training necessary to perform their jobs in a safe manner.

Title 30, CFR 48.9 and 48.29 specify how training provided to miners must be recorded. Upon completion of each training program, the mine operator certifies on MSHA Form 5000-23 that the miner has received the specified training in each subject area of the approved health and safety training plan. The Form 5000-23 provides the mine operator with a recordkeeping form, the miner with a certificate of training, and MSHA with a monitoring tool for determining compliance requirements.

Ira L. Mills,
Departmental Clearance Officer.

[FR Doc. 04-25384 Filed 11-15-04; 8:45 am]

BILLING CODE 4510-43-P